DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Northern Star (Pogo), LLC.

DATES: All comments on the petition must be received by MSHA's Office of Standards, Regulations, and Variances on or before November 4, 2024.

ADDRESSES: You may submit comments identified by Docket No. MSHA-2024-0047 by any of the following methods:

1. Federal eRulemaking Portal: https://www.regulations.gov. Follow the instructions for submitting comments for MSHA-2024-0047.

2. Fax: 202-693-9441.

3. Email: petitioncomments@dol.gov.

4. Regular Mail or Hand Delivery: MSHA, Office of Standards, Regulations, and Variances, 201 12th Street South, Suite 4E401, Arlington, Virginia 22202-5452.

Attention: S. Aromie Noe, Director, Office of Standards, Regulations, and Variances. Persons delivering documents are required to check in at the receptionist's desk, 4th Floor West. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2024-002-M.

Petitioner: Northern Star (Pogo), LLC, 3204 International Street, Fairbanks, AK 99702.

Mine: Pogo Mine, MSHA ID No. 50-01642, located in Southeast Fairbanks, Alaska.

Regulation Affected: 30 CFR 57.11052, Refuge areas.

Modification Request: The petitioner requests a modification of 30 CFR 57.11052 to allow the use of sealed, purified drinking water in lieu of providing potable water through waterlines in refuge areas.

The petitioner states that:

(a) Pogo Mine is an underground portal gold mine that began producing in 2005 and has permitting to continue mining through 2030.

(b) Pogo Mine currently has 14 refuge chambers and 10 entrapment chambers located throughout the underground portion of the mine. In these purpose-built refuge chambers, drinkable water has always been supplied via commercially purchased water in sealed bottles. Fire suppression is provided with fire extinguishers on the exterior and fire blankets on the interior.

(c) Each refuge chamber cut out is provided with a waterline. However, due to the configuration and condition of the waterlines and the quality of the water source, the water flowing through these lines is not potable. Installing waterlines that provide potable drinking water to each refuge chamber is not feasible due to the lack of essential infrastructure. Given the non-potable nature of the water and the potential for waterline damage, there is no guarantee that potable drinking water can be provided via the waterlines, as could be interpreted by 30 CFR57.11052(d). Application of the standard could adversely impact the safety of miners using the refuge if they were to rely on the waterlines that run throughout the mine to the refuge chambers. The alternative method of storing sealed, purified water inside each refuge chamber provides certainty that miners will have sanitary drinking water available to them, regardless of the current condition of the water supply or the nature of any emergency that might occur in the future.

(d) All refuge and entrapment chambers at Pogo Mine are portable. By allowing the use of refuge and entrapment chambers that are not connected to waterlines, the mine will have greater flexibility in the locating of the chambers. This will allow the chambers to continue to be located near where miners are working, and to be relocated more quickly to working areas where needed. Additionally, when damage or corrosion occur in the waterline connections it has forced the mine to pull refuge chambers from service due to water damage internally. This reduces the number of available assets in the event of an emergency.

(e) All refuge and entrapment chambers meet all criteria for safe areas of refuge to include steel (non-combustible) construction throughout, large enough to accommodate readily the normal number of persons in that area of the mine, constructed so they are gas tight with positive pressure to expel potential harmful gasses, and provided with compressed air lines and suitable hand tools for getting chambers in service. Water and stopping materials are not needed for miners to be protected during an emergency if they were to seek refuge per the manufacturer's recommendations for use.

(f) The manufacturer cautions use of water as potential fire suppression internally. This should be avoided to prevent damage and compromise of air scrubbing units. Standard firefighting practices also caution that use of water for firefighting in a sealed enclosed space would create more hazards from steam production and arcing of electronics used, potentially injuring miners and making the units less safe.

(g) The petitioner proposes that the Proposed Decision and Order (PDO) granted by MSHA apply to all existing refuge chambers and to future refuge chambers and locations.

(h) The alternative method in the petition will always guarantee no less than the same measure of protection afforded to the miners by the standard.

The petitioner proposes the following alternative method:

(a) The 14 portable refuge chambers in use at Pogo Mine are MineARC, Bost, and DEA refuge chambers and are made of steel. Each of these portable refuge chambers is equipped for a capacity of 8 to 20 miners depending on which unit is in the area. The combined capacity of the refuge chambers far exceeds the normal maximum work crew of approximately 100 miners underground on any given day during any shift.

(b) Drinking water shall continue to be supplied via commercially purchased water in sealed individual portions in each refuge chamber. The water is currently supplied by the case and packaged into 16.9 fluid ounce (500 milliliter) portions with 24 to 30 individual portions per case.

(c) The refuge chambers at the Pogo Mine are equipped to provide a minimum of 1.18 gallons (4.5 liters) per person that the chambers are rated to hold.

(d) The condition and quantity of water is confirmed by inspection, on a regular basis.

(e) Written instructions for conservation of water shall be provided with the refuge chamber supplies.

(f) All miners affected shall receive training in the operation of the refuge chambers and shall receive refresher training annually.

(g) The refuge chambers shall be inspected regularly, with quarterly inspections and servicing from manufacturer approved representatives. These inspections and servicing shall continue to be documented and provided to the Mine Manager or their designee.

(h)

Table 1—Refuge Chambers at Pogo Mine
[Current status]
Refuge chamber | Manufacturer | Number capacity in persons
MRC 1 | DEA | 16
MCR 2 | DEA | 16
MCR 3 | DEA | 8
MCR 4 | DEA | 12
MCR 5 | Bost | 20
MCR 6 | Bost | 20
MCR 7 | Bost | 20
MCR 8 | MineArc | 16
MCR 9 | MineArc | 16
MCR 10 | MineArc | 8
MCR 11 | MineArc | 8
MCR 18 | MineArc | 8
MCR 19 | MineArc | 8
MCR 24 | Bost | 20

Table 2—Entrapment Chambers at Pogo Mine
[Current status]
Entrapment chamber | Manufacturer | Number capacity in persons
MCR 12 | MineArc | 6
MCR 13 | MineArc | 6
MCR 14 | MineArc | 6
MCR 15 | MineArc | 6
MCR 16 | MineArc | 6
MCR 17 | MineArc | 6
MCR 20 | MineArc | 4
MCR 21 | MineArc | 4
MCR 22 | MineArc | 4
MCR 23 | MineArc | 4

(i) Portable refuge chambers have a capacity from 8 to 20 persons with 4 that have a 20-person capacity. Additionally, portable entrapment chambers have a capacity of 4 to 6 persons and are utilized per Northern Star (Pogo), LLC, standards to provide safe refuge for persons potentially working behind heavy equipment who may be entrapped in an emergency with heavy equipment in their path of travel preventing safe evacuation. All chambers are equipped with gas monitoring equipment, packaged drinking water, oxygen bottles, backup compressed air, toilet, radio, phone, air conditioning, back up battery power, fire blankets, fire extinguishers, and food rations.

(j) The MineARC refuge chambers are equipped with and pre-packaged MARCISORB chemical absorber cartridges to remove the buildup of harmful carbon dioxide (CO2) and carbon monoxide (CO) from the air inside the refuge chamber. The DEA refuge chambers have been retrofitted with a MineARC electrical scrubbing system and pre-packaged MARCISORB chemical absorber cartridges as well. Bost refuge chambers have an electrical scrubbing system utilizing soda lime (Drägersorb) to remove the buildup of CO2 and gold-based oxidation catalyst (Premiox™) to remove CO from the air inside the refuge chamber.

(k) Northern Star (Pogo), LLC, has reviewed this petition with the miner's representatives on June 15, 2024, who concur with and support all statements made with this petition. Miners at Pogo Mine are not represented by any labor organization.

The petitioner asserts that the alternative method in the petition will at all times guarantee no less than the same measure of protection afforded to the miners by the standard.

Song-ae Aromie Noe,
Director, Office of Standards, Regulations, and Variances.

[FR Doc. 2024-22930 Filed 10-3-24; 8:45 am]

BILLING CODE 4520-43-P